DEPARTMENT OF COMMERCE

National Oceanic and Atmospheric Administration

Availability of Seats for the Florida Keys National Marine Sanctuary Advisory Council

AGENCY: National Marine Sanctuary Program (NMSP), National Ocean Service (NOS), National Oceanic and Atmospheric Administration, Department of Commerce (DOC).

ACTION: Notice and request for applications.

SUMMARY: The Florida Keys National Marine Sanctuary (FKNMS) is seeking applicants for the following vacant seats on its Sanctuary Advisory Council (Council):

Members

Local Elected Official.

Citizen-at-Large—Middle Keys.

Citizen-at-Large—Lower Keys.

Tourism—Upper Keys.

Tourism—Lower Keys.

Diving—Upper Keys.

Diving—Lower Keys.

Charter Fishing/Flats Guide.

Commercial Fishing—Shell/Scale.

Commercial Fishing—Marine/Tropical.

Conservation and Environment.

Education/Outreach.

Research/Monitoring.

Submerged Cultural Resources.

Alternates

Local Elected Official.

Citizen-at-Large—Middle Keys.

Citizen-at-Large—Lower Keys.

Tourism—Upper Keys.

Tourism—Lower Keys.

Diving—Upper Keys.

Diving—Lower Keys.

Boating.

Charter Fishing/Flats Guide.

Charter/Sports Fishing.

Commercial Fishing—Shell/Scale.

Commercial Fishing—Marine/Tropical.

Conservation and Environment (1).

Conservation and Environment (2).

Research/Monitoring.

Submerged Cultural Resources.

DATES: Applications are due by October 10, 2003.

ADDRESSES: Application kits may be obtained from Fiona Wilmot, FKNMS, P.O. Box 500368, Marathon, FL 33050, Fiona.Wilmot@noaa.gov, (305) 743-2437 ext. 27. Address inquiries and return completed applications to her.

SUPPLEMENTARY INFORMATION: Is available on the FKNMS Web site at http://www.fknms.nos.noaa.gov.

Authority: 16 U.S.C. sections 1431, et seq.

(Federal Domestic Assistance Catalog Number 11.429 Marine Sanctuary Program)

Dated: September 12, 2003.
Richard W. Spinrad,
Assistant Administrator, Ocean Services and Coastal Zone Management, National Oceanic and Atmospheric Administration.

[FR Doc. 03-23929 Filed 9-18-03; 8:45 am]

BILLING CODE 3510-NK-M